DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the Rural Utilities Service (RUS) invites comments on this information collection for which RUS intends to request approval from the Office of Management and Budget (OMB).

DATES: Comments on this notice must be received by February 28, 2003.

FOR FURTHER INFORMATION CONTACT: F. Lamont Heppe, Jr., Program Development & Regulatory Analysis, Rural Utilities Service, USDA, 1400 Independence Ave., SW., STOP 1522, Room 4034 South Building, Washington, DC 20250-1522. Telephone: (202) 720-0736. FAX: (202) 720-4120.

SUPPLEMENTARY INFORMATION: Title: Telecommunications Field Trials.

OMB Control Number: 0572-New.

Type of Request: New collection.

Abstract: Title 7 CFR 1755.3 prescribes the conditions and provisions of a field trial. A field trial consists of limited filed installation of a qualifying product in closely monitored situations designed to determine, to RUS' satisfaction, the products effectiveness under actual field conditions. Field trials are used only as a means for determining, to RUS' satisfaction, the operational effectiveness of a new or revised product where such experience does not already exist. The field trial process allows manufacturers a means of immediate access to the RUS borrower market, allows RUS borrowers opportunity to immediately utilize advance products, and allows RUS a means to safely, in a controlled manner, obtain necessary information on technically advanced products which will address the products suitability for use in the harsh environment of rural America.

Estimate of Burden: Public reporting burden for this collection of information is estimated to average 4 hours per response.

Respondents: Business or other for-profit and non-profit institutions.

Estimated Number of Respondents: 6.

Estimated Number of Responses per Respondent: 2.

Estimate Total Annual Burden on Respondents: 56 hours.

Copies of this information collection can be obtained from Dawn Wolfgang, Program Development and Regulatory Analysis, Rural Utilities Service at (202) 720-0812. Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology.

All responses to this notice will be summarized and included in the request for OMB approval. All comments will also become a matter of public record.

Dated: December 23, 2002.
Curtis M. Anderson,
Deputy Administrator as Acting Administrator, Rural Utilities Service.

[FR Doc. 02-32827 Filed 12-27-02; 8:45 am]

BILLING CODE 3410-15-P